DEPARTMENT OF ENERGY

[Project No. 3218-040, et al.]

Federal Energy Regulatory Commission

October 8, 2002.

Notice of Extension of Time to Complete Project Construction and Soliciting Comments

Take notice that the following request for extension of time has been filed with the Commission and is available for public inspection:

a. Application Type: Extension of Time to Complete Project Construction.

b. Project Nos: 3218-040, 6901-048, and 6902-061.

c. Date Filed: June 21, 2002 and Supplemented on September 19, 2002.

d. Applicants: City of Orrville, Ohio (FERC Project No. 3218) and the City of New Martinsville, West Virginia (FERC Project Nos. 6901, and 6902).

e. Project Names: Pike Island Hydroelectric Project, FERC No. 3218, New Cumberland Hydroelectric Project, FERC No. 6901 and Willow Island Hydroelectric Project, FERC No. 6902.

f. Locations of Projects: FERC Project No. 3218 is located at the U.S. Army Corps of Engineers' (Corps) Pike Island Locks and Dam on the Ohio River in Ohio County, West Virginia, and Belmont County, Ohio. FERC Project No. 6901 is located at the Corps' New Cumberland Lock and Dam on the Ohio River in Hancock County, West Virginia. FERC Project No. 6902 is located at the Corps' Willow Island Lock and Dam on the Ohio River in Pleasants County, West Virginia.

g. Filed Pursuant to: 18 CFR 375.308 (c)(4)

h. Applicant Contact: Mr. E. J. Garceau, Bedford Energy Associates LLC, 214 North Amherst Road, Bedford, New Hampshire 03110, (603) 472-5731.

i. FERC Contact: Any questions on this notice should be directed to Mr. Lynn R. Miles at (202) 502-8763.

j. Deadline for filing comments, protests, and motions to intervene: November 8, 2002.

All documents (original and eight copies) should be filed with: Magalie R. Salas, Secretary, Federal Energy Regulatory Commission, 888 First Street, NE., Washington, DC 20426. Comments, protests, and interventions may be filed electronically via the Internet in lieu of paper; see 18 CFR 385.2001(a)(1)(iii) and the instructions on the Commission's Web site under the “e-Filing” link. The Commission strongly encourages electronic filings. Please include the project numbers (P-3218-040, P-6901-048, and P-6902-061) on any comments or motions filed.

The Commission's rules of practice and procedure require all interveners filing documents with the Commission to serve a copy of that document on each person in the official service list for the project. Further, if an intervener files comments or documents with the Commission relating to the merits of an issue that may affect the responsibilities of a particular resource agency, they must also serve a copy of the document on that resource agency.

k. Description of Proposal: The Cities jointly and severally request to extend the deadlines for completion of their respective projects to September 23, 2006.

l. This filing is available for review at the Commission in the Public Reference Room or may be viewed on the Commission's Web site at http://www.ferc.gov using the “FERRIS” link. Enter the docket number excluding the last three digits in the docket number field to access the document. For assistance, call toll-free 1-866-208-3676 or e-mail ferconlinesupport@ferc.gov. For TTY, call (202) 502-8659. A copy is also available for inspection and reproduction at the address in item h. above.

m. Individuals desiring to be included on the Commission's mailing list should so indicate by writing to the Secretary of the Commission.

Comments, Protests, or Motions to Intervene—Anyone may submit comments, a protest, or a motion to intervene in accordance with the requirements of rules of practice and procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “PROTEST”, OR “MOTION TO INTERVENE”, as applicable, and the Project Number of the particular application to which the filing refers. An additional copy must be sent to the Director, Division of Hydropower Administration and Compliance, Federal Energy Regulatory Commission, at the above-mentioned address. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Deputy Secretary.

[FR Doc. 02-26082 Filed 10-11-02; 8:45 am]

BILLING CODE 6717-01-P